DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. chapter 35).

Agency: United States Patent and Trademark Office (USPTO).

Title: Certain Patent Petitions Requiring a Fee (formerly Patent Petitions Corresponding to the Fee under 37 CFR 1.17(f)).

Form Number(s): PTO/SB/17P, PTO/SB/23, PTO/SB/24a, PTO/SB/28 (EFS-Web only), and PTO/SB/140 (EFS-Web only).

Agency Approval Number: 0651-0059.

Type of Request: Revision of a currently approved collection.

Burden: 41,907 hours annually.

Number of Respondents: 39,015 responses per year.

Avg. Hours Per Response: The USPTO estimates that it takes the public approximately 5 minutes (0.08 hours) to complete the petition fee transmittals and 12 minutes (0.20 hours) to 12 hours to complete the petitions in this collection, depending on the nature of the information. This includes the time to gather the necessary information, prepare the petitions and petition fee transmittals, and submit them to the USPTO. The USPTO estimates that it takes the same amount of time (and possibly less time) to gather the necessary information, prepare the submission, and submit it electronically as it does to submit the information in paper form.

Needs and Uses: The public uses the information in this collection to petition for various actions under 37 CFR 1.17(f), (g), and (h), such as petitioning for a suspension of the rules, requesting access to an assignment record, or requesting the withdrawal of an application from issue either before or after paying the issue fee. In addition, the public also uses these petitions to obtain copies of documents that have been submitted in a form other than that provided by the rules of practice, to request accelerated examination, to request abandonment of an application to avoid publication of said application, and to request an extension of time. The public uses the transmittal form to remit the required fees for the various petitions. The USPTO uses the information collected from the petitions to grant the various requests and to ensure that the proper fees have been remitted and are processed accordingly.

Affected Public: Businesses or other for-profits.

Frequency: On occasion.

Respondent's Obligation: Required to obtain or retain benefits.

OMB Desk Officer: Nicholas A. Fraser, e-mail: Nicholas_A._Fraser@omb.eop.gov.

Once submitted, the request will be publicly available in electronic format through the Information Collection Review page at http://www.reginfo.gov.

Paper copies can be obtained by:

• E-mail: InformationCollection@uspto.gov. Include “0651-0059 copy request” in the subject line of the message.

• Mail: Susan K. Fawcett, Records Officer, Office of the Chief Information Officer, United States Patent and Trademark Office, P.O. Box 1450, Alexandria, VA 22313-1450.

Written comments and recommendations for the proposed information collection should be sent on or before June 30, 2011 to Nicholas A. Fraser, OMB Desk Officer, via e-mail to Nicholas_A._Fraser@omb.eop.gov, or by fax to 202-395-5167, marked to the attention of Nicholas A. Fraser.

Dated: May 25, 2011.
Susan K. Fawcett,
Records Officer, USPTO, Office of the Chief Information Officer.

[FR Doc. 2011-13366 Filed 5-27-11; 8:45 am]

BILLING CODE 3510-16-P